DEPARTMENT OF DEFENSE

Department of the Army, Army Corps of Engineers

Notice of Intent To Prepare a Draft Supplemental Environmental Impact Statement/Environmental Impact Report for the American River Common Features Project, American River Erosion Protection and Arden Pond Mitigation Components (Sacramento County, California), as Authorized Under the Water Resources Development Act of 2016

AGENCY: Department of the Army, U.S. Army Corps of Engineers, DoD.

ACTION: Notice of intent.

SUMMARY: The U.S. Army Corps of Engineers (USACE), Sacramento District, the State of California, and Central Valley Flood Protection Board (CVFPB) are preparing a Draft Supplemental Environmental Impact Statement/Environmental Impact Report (Draft Supplemental EIS/EIR) for the American River Contract 2 (Proposed Action) of the American River Common Features (ARCF) Levee Improvement Project authorized by the Water Resources Development Act of 2016. This Draft Supplemental EIS/EIR supplements the ARCF General Reevaluation Report (GRR) Final EIS/EIR (May 2016). The Proposed Action includes constructing erosion protection measures at Lower American River (LAR) sites 2-2 (river mile 7.5 right bank), and 2-3 (river mile 5.9 right bank), transporting excavated materials from site 2-3 to the Arden Pond mitigation site for construction of shallow water fish habitat for juvenile salmon, construction of a berm to separate the restored Arden Pond from the adjacent bass pond, and planting of emergent and riparian vegetation to provide Shaded Riverine Aquatic (SRA) habitat. The Proposed Action is necessary to protect the levee from erosion damage that could reduce its reliability to protect against flooding, and to mitigate loss of fish and riparian habitat for the American River Common Features Project Endangered Species Act consultation requirements. Conceptual components of the Proposed Action were analyzed (erosion protection measures) in the ARCF GRR Final EIS/EIR, but some elements of the Proposed Action (Arden Pond and SRA habitat mitigation) were not analyzed in the ARCF GRR Final EIS/EIR because habitat mitigation locations and designs were still in formulation at the time the Final EIS/EIR was completed. The USACE has now developed levee erosion protection and habitat mitigation designs in sufficient detail to analyze their environmental effects.

DATES: Written comments regarding the scope of the environmental analysis should be received by August 31, 2020.

ADDRESSES: Written comments and suggestions concerning this Project and requests to be included on the Project mailing list may be submitted to Ms. Andrea Meier, U.S. Army Corps of Engineers, Sacramento District, Attn: Planning Division (CESPK-PDR), 1325 J Street, Sacramento, CA 95814.

FOR FURTHER INFORMATION CONTACT: Questions about the Proposed Action and draft Supplemental EIS/EIR may be addressed to Ms. Andrea Meier at (916) 557-7206, email at Andrea.J.Meier@usace.army.mil, or by mail at 1325 J Street, Sacramento, CA 95814 (see ADDRESS). Additional information will also be posted periodically on the internet under the American River Contract 2 web page at: www.sacleveeupgrades.com.

SUPPLEMENTARY INFORMATION:

1. Proposed Action. The USACE is preparing a Supplemental Environmental Impact Statement (SEIS)/Supplemental Environmental Impact Report (SEIR) to analyze environmental impacts of the authorized erosion protection and habitat mitigation components of the larger ARCF 2016 levee improvement project. The Proposed Action includes constructing erosion countermeasures at LAR sites 2-2 and 2-3, transporting excavated materials from site 2-3 to Arden Pond, and construction of the Arden Pond mitigation site. Bench excavation at LAR site 2-3 would provide fill material for the 18-acre Arden Pond mitigation site and fill material to construct a berm to separate the mitigation area from the remaining 8.3-acre bass pond. The project will be implemented as American River Contract 2.

2. Alternatives. Alternatives that may be considered include: (1) Construction of erosion protection measures at LAR site 2-2 and excavation of the bench at LAR 2-3; (2) habitat restoration at Arden Pond; and (3) the required No Action Alternative.

3. Scoping Process.

a. A public scoping meeting will be held in the form of a teleconference and/or webinar to present an overview of the American River Erosion Protection and Arden Pond Mitigation Projects, the Proposed Action and the alternatives that have been identified, and the Supplemental EIS/EIR process. Scoping will afford all interested parties an opportunity to comment on the scope of analysis in the draft document. The public scoping webinar will be held in August 2020. Exact date, time, registration details, additional information, and any schedule changes will be announced online at: www.sacleveeupgrades.com.

b. Potentially significant issues to be analyzed in depth in the Draft Supplemental EIS/EIR include: Impacts to water quality, air quality, climate change, special status species, terrestrial vegetation and wildlife, recreation, traffic and circulation, noise, aesthetic and visual resources, and cultural resources. The document will also evaluate the Proposed Action's anticipated cumulative effects.

c. The USACE will consult with the National Marine Fisheries Service and U.S. Fish and Wildlife Service to comply with the Endangered Species Act and the Fish and Wildlife Coordination Act. The USACE will also consult with the State Historic Preservation Officer and Native American Tribes to comply with the National Historic Preservation Act.

d. A 45-day public review period will be provided for individuals, interested parties, and agencies to review and comment on the Draft Supplemental EIS/EIR. All interested parties are encouraged to respond to this notice and provide a current address if they wish to be notified of the Draft Supplemental EIS/EIR circulation.

4. Availability. The Draft Supplemental EIS/EIR is scheduled to be available for public review and comment during winter 2020-2021.

Paul E. Owen,
Brigadier General, U.S. Army Commanding.

[FR Doc. 2020-16598 Filed 7-30-20; 8:45 am]

BILLING CODE 3720-58-P